NUCLEAR REGULATORY COMMISSION

[Docket No. 50-188]

Notice of Renewal of Facility License No. R-88; Kansas State University TRIGA Research Reactor

The U.S. Nuclear Regulatory Commission (the Commission) has issued renewed Facility License No. R-88 for the Kansas State University (the licensee), for operation of the Kansas State University TRIGA Research Reactor Facility located in Manhattan, Kansas.

The facility is a research reactor that has been operating at a power level not in excess of 250 kilowatts (thermal). The renewed Facility License No. R-88 allows operation at an increased power level not in excess of 1,250 kilowatts (thermal), and will expire twenty years from its effective date.

The renewed license complies with the standards and requirements of the Atomic Energy Act of 1954, as amended (the Act), and the Commission's rules and regulations. The Commission has made appropriate findings as required by the Act and the Commission's regulations in 10 CFR Chapter I. Those findings are set forth in the license renewal. Opportunity for hearing was afforded in the notice of the proposed issuance of this renewal in the Federal Register on October 6, 2005 (70 FR 58487) and on August 2, 2006 (71 FR 43816). No request for a hearing or petition for leave to intervene was filed following notice of the proposed action.

Continued operation of the reactor will not require alteration of buildings or structures, will not lead to significant changes in effluents released from the facility to the environment, will not increase the probability or consequences of accidents, and will not involve any unresolved issues concerning alternative uses of available resources. Based on the foregoing and on the Environmental Assessment, the Commission concludes that renewal of the license and power increase will not results in any significant environmental impacts.

The Commission has prepared a “Safety Evaluation Report Related to the Renewal of the Facility License for the TRIGA Research Reactor at the Kansas State University” for the renewal of Facility License No. R-88 and has, based on that evaluation, concluded that the facility can continue to be operated by the licensee without endangering the health and safety of the public.

The Commission also prepared an Environmental Assessment which was published in the Federal Register on February 26, 2008 (73 FR 10308) for the renewal of Facility License No. R-88 and has concluded that this action will not have a significant effect on the quality of the human environment.

For further details with respect to this action, see: (1) The application for amendment dated September 12, 2002, as supplemented on November 11, 2002, November 13, 2002, December 21, 2004, July 6, 2005, September 27, 2005, March 20, 2006, March 30, 2006, June 28, 2006, September 28, 2006, May 17, 2007, and June 4, 2007, September 12, 2007, October 11, 2007, and February 6, 2008; (2) Renewal of Facility License No. R-88; (3) the related Safety Evaluation Report; and (4) the Environmental Assessment dated February 20, 2008. Documents may be examined, and/or copied for a fee, at the NRC's Public Document Room, located at One White Flint North, 11555 Rockville Pike (first floor), Rockville, Maryland. Publicly available records will be accessible electronically from the Agencywide Documents Access and Management System (ADAMS) Public Electronic Reading Room on the Internet at NRC Web site, http://www.nrc.gov/reading-rm/adams.html.

If you do not have access to ADAMS or if there are problems in accessing the documents located in ADAMS, contact the PDR Reference staff at 1-800-397-4209, 301-415-4737 or by e-mail to pdr@nrc.gov.

Dated at Rockville, Maryland this 13th day of March, 2008.
For the Nuclear Regulatory Commission.
Daniel S. Collins,
Chief, Research and Test Reactors Branch A, Division of Policy and Rulemaking, Office of Nuclear Reactor Regulation.

[FR Doc. E8-5643 Filed 3-19-08; 8:45 am]

BILLING CODE 7590-01-P